DEPARTMENT OF TRANSPORTATION

Federal Railroad Administration

[ Docket Number FRA-2010-0174]

Petition for Modification of Single Car Air Brake Test Procedures

In accordance with Part 232 of Title 49 of the Code of Federal Regulations (CFR), this document provides the public notice that by a document dated November 19, 2010, the Port Authority Trans-Hudson Corporation (PATH) has requested the Federal Railroad Administration (FRA) grant a modification of the single car air brake test procedures as prescribed in 49 CFR 232.305(a). FRA assigned the request Docket Number FRA-2010-0174.

PATH operates a fleet of 25 flat cars in consist with revenue cars utilized as locomotives in “work” trains, where the friction brakes operate in conjunction with the RT2 system of straight air brake employed on PATH cars. The single car air brake test described in Association of American Railroads (AAR) S-486 (incorporated by reference in 49 CFR 232.305) is intended for freight cars with automatic brake systems that are significantly different than the RT2 system utilized by PATH. As such, PATH believes that a brake system inspection and testing procedure similar to that performed on PATH MU locomotives is required since a conventional AAR S-486 single car air brake test cannot be performed on these flat cars.

PATH requests a modification to the single car air brake test procedure required in 49 CFR 232.305 by the adoption of “Procedure for the Inspection/Testing of PATH Flat Cars” (05/04/11 revision), Docket Number FRA-2010-0174-0004.1; and “Procedure for the Inspection/Testing of PATH Flat Cars Addendum Brake Rigging Inspection and Slack Adjustment” (05/04/11), Docket Number FRA-2010-0174-0005.1.

Copies of these documents and the petition, as well as any written communications concerning the petition, is available for review online at http://www.regulations.gov and in person at the Department of Transportation's Docket Operations Facility, 1200 New Jersey Avenue, SE., W12-140, Washington, DC 20590. The Docket Operations Facility is open from 9 a.m. to 5 p.m., Monday through Friday, except Federal Holidays.

Interested parties are invited to participate in these proceedings by submitting written views, data, or comments. All communications concerning these proceedings should identify the appropriate docket number (e.g., Docket Number FRA-2010-0174) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal Holidays.

Communications received by August 15, 2011 will be considered by FRA before final action is taken. Pursuant to 232.307(d), if no comment objecting to the requested modification is received during the 60-day comment period, or if FRA does not issue a written objection to the requested modification, the modification will become effective August 29, 2011.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78) or online at http://www.dot.gov/privacy.html.

Issued in Washington, DC on June 9, 2011.
Robert C. Lauby,
Deputy Associate Administrator for Regulatory & Legislative Operations.

[FR Doc. 2011-14730 Filed 6-13-11; 8:45 am]

BILLING CODE 4910-06-P